DEPARTMENT OF COMMERCE

International Trade Administration

[A-560-826]

Monosodium Glutamate From the Republic of Indonesia: Amended Final Results of Antidumping Duty Administrative Review; 2016-2017

AGENCY: Enforcement and Compliance, International Trade Administration, Department of Commerce.

SUMMARY: The Department of Commerce (Commerce) is amending the final results of the administrative review of the antidumping duty (AD) order on monosodium glutamate (MSG) from the Republic of Indonesia (Indonesia) to correct two ministerial errors.

DATES: Applicable January 22, 2020.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

On August 1, 2019, Commerce published the Final Results of the administrative review of the AD order on MSG from Indonesia covering the November 1, 2016 through October 31, 2017 period of review (POR).¹ On August 6, 2019, Ajinomoto Health & Nutrition North America (Ajinomoto),² the petitioner in the underlying AD investigation, and PT. Cheil Jedang Indonesia and U.S. sales affiliate CJ America Inc. (collectively, CJ Indonesia), the sole respondent in this administrative review, each timely filed ministerial error allegations concerning the Final Results.³ On August 12, 2019, CJ Indonesia timely filed a rebuttal to Ajinomoto's allegation.⁴ No interested party commented on CJ Indonesia's allegation.

¹ See Monosodium Glutamate from the Republic of Indonesia: Final Results of Antidumping Duty Administrative Review; 2016-2017, 84 FR 37625 (August 1, 2019) (Final Results).

² Formerly known as Ajinomoto North America Inc.

³ See Ajinomoto's Letter, “MSG from Indonesia: Ministerial Error Comments,” dated August 6, 2019; see also CJ Indonesia's Letter, “Monosodium Glutamate (“MSG”) from Indonesia; 3rd Administrative Review; CJ Ministerial Error Comments,” dated August 6, 2019.

⁴ See CJ Indonesia's Letter, “Monosodium Glutamate (“MSG”) from Indonesia; Reply to Petitioner's Ministerial Error Comments,” dated August 12, 2019.

Legal Framework

A ministerial error, as defined in section 751(h) of the Tariff Act of 1930, as amended (the Act), includes “errors in addition, subtraction, or other arithmetic function, clerical errors resulting from the inaccurate copying, duplication, or the like, and any other type of unintentional error which the administering authority considers ministerial.” ⁵ With respect to final results of administrative reviews, 19 CFR 351.224(e) provides that Commerce “will analyze any comments received and, if appropriate, correct any ministerial error by amending . . . the final results of review . . .”

⁵ See 19 CFR 351.224(f).

Ministerial Errors

Commerce committed two inadvertent errors in CJ Indonesia's final dumping margin within the meaning of section 751(h) of the Act and 19 CFR 351.224(f) by: (1) Failing to apply the average-to-transaction comparison method as a result of its “differential pricing” analysis when determining the appropriate comparison method to use in comparing weighted-average normal values to weighted-average export prices (or constructed export prices); and (2) making an error in a currency calculation when calculating the CEP Offset for CJ Indonesia. Accordingly, Commerce determines that, in accordance with section 751(h) of the Act and 19 CFR 351.224(f), it made two ministerial errors in the Final Results. Pursuant to 19 CFR 351.224(e), Commerce is amending the Final Results to correct these two errors. These corrections result in a change to CJ Indonesia's weighted-average dumping margin. For a detailed discussion of Ajinomoto's and CJ Indonesia's ministerial error allegations, as well as Commerce's analysis, see the Ministerial Error Memorandum.⁶

⁶ See Memorandum, “Ministerial Error Memorandum for the Final Results of the 2016-2017 Antidumping Duty Administrative Review of Monosodium Glutamate from the Republic of Indonesia,” dated concurrently with, and hereby adopted by, this notice (Ministerial Error Memorandum).

Amended Final Results of Administrative Review

As a result of correcting the two ministerial errors described above, Commerce determines that the following weighted-average dumping margin for CJ Indonesia exists for the period November 1, 2016 through October 31, 2017:

Exporter/producer | Weighted-average dumping margin (percent)
PT. Cheil Jedang Indonesia | 0.71

Disclosure

We intend to disclose the calculations performed for these amended final results in accordance with 19 CFR 351.224(b).

Antidumping Duty Assessment

Pursuant to section 751(a)(2)(C) of the Act and 19 CFR 351.212(b)(1), Commerce has determined, and U.S. Customs and Border Protection (CBP) shall assess, antidumping duties on all appropriate entries of subject merchandise in accordance with these amended final results of the administrative review.

Pursuant to 19 CFR 351.212(b)(1), CJ Indonesia reported the entered value of its U.S. sales such that we calculated importer-specific ad valorem duty assessment rates based on the ratio of the total amount of dumping calculated for the examined sales to the total entered value of the sales for which entered value was reported. Where an importer-specific rate is zero or de minimis within the meaning of 19 CFR 351.106(c)(1), Commerce will instruct CBP to liquidate the appropriate entries without regard to antidumping duties. The amended final results of this review shall be the basis for the assessment of antidumping duties on entries of merchandise covered by the amended final results of this review and for future deposits of estimated duties, where applicable.⁷

⁷ See section 751(a)(2)(C) of the Act.

Cash Deposit Requirements

The following cash deposit requirements will be effective retroactively for all shipments of subject merchandise entered, or withdrawn from warehouse, for consumption on or after August 1, 2019, the date of publication of the Final Results of this administrative review in the Federal Register, as provided by section 751(a)(2)(C) of the Act: (1) The cash deposit rate for CJ Indonesia will be that established in these amended final results; (2) for previously reviewed or investigated companies, including those for which Commerce may have determined had no shipments during the POR, the cash deposit rate will continue to be the company-specific rate published for the most recently completed segment of this proceeding in which the company participated; (3) if the exporter is not a firm covered in this or review (or in an earlier review), or in the original less-than-fair-value (LTFV) investigation, but the manufacturer is, then the cash deposit rate will be the rate established in the most recently-completed segment of this proceeding for the manufacturer of the merchandise; and (4) if neither the exporter nor the manufacturer is a firm covered in this or any previously completed segment of this proceeding, then the cash deposit rate will be the all-others rate of 6.19 percent, the all-others rate established in the LTFV investigation.⁸ These cash deposit requirements, when imposed, shall remain in effect until further notice.

⁸ See Monosodium Glutamate from the Republic of Indonesia: Final Determination of Sales at Less Than Fair Value, 79 FR 58329 (September 29, 2014).

Notification to Importers

This notice serves as the final reminder to importers of their responsibility under 19 CFR 351.402(f)(2) to file a certificate regarding the reimbursement of antidumping duties prior to liquidation of the relevant entries during the period of review. Failure to comply with this requirement could result in the Secretary's presumption that reimbursement of antidumping duties occurred and the subsequent assessment of doubled antidumping duties.

Administrative Protective Order

This notice serves as a reminder to parties subject to administrative productive order (APO) of their responsibility concerning the disposition of proprietary information disclosed under APO in accordance with 19 CFR 351.305(a)(3), which continues to govern business proprietary information in this segment of the proceeding. Timely written notification of return or destruction of APO materials or conversion to judicial protective order is hereby requested. Failure to comply with the regulations and the terms of an APO is a sanctionable violation.

Notification to Interested Parties

These amended final results and notice are issued and published in accordance with sections 751(h) and 777(i) of the Act and 19 CFR 351.224(e).

Dated: January 15, 2020.
Jeffrey I. Kessler,
Assistant Secretary for Enforcement and Compliance.

[FR Doc. 2020-00950 Filed 1-21-20; 8:45 am]

BILLING CODE 3510-DS-P